DEPARTMENT OF COMMERCE

International Trade Administration

[A-580-878; C-580-879]

Certain Corrosion-Resistant Steel Products From the Republic of Korea: Correction to Affirmative Final Determinations of Anti-Circumvention Inquiries on the Antidumping Duty and Countervailing Duty Orders

AGENCY: Enforcement and Compliance, International Trade Administration, Department of Commerce.

SUMMARY: The Department of Commerce (Commerce) is correcting the final determinations of anti-circumvention inquiries on the antidumping and countervailing duty orders on certain corrosion-resistant steel products (CORE) from the Republic of Korea (Korea).

DATES: Applicable January 8, 2020.

FOR FURTHER INFORMATION CONTACT: Chien-Min Yang, AD/CVD Operations, Office VII, Enforcement and Compliance, International Trade Administration, U.S. Department of Commerce, 1401 Constitution Avenue NW, Washington, DC 20230; telephone: (202) 482-5484.

SUPPLEMENTARY INFORMATION: On December 26, 2019, Commerce published in the Federal Register the affirmative final determinations of anti-circumvention inquiries ¹ related to the antidumping duty and countervailing duty orders on CORE from Korea.² The published Federal Register notice and accompanying Issues and Decision Memorandum (IDM) at page eight erroneously stated that the following five companies were not eligible for the certification process with regard to hot-rolled steel (HRS) and cold-rolled steel (CRS) from Korea: ³ (1) Dai Thien Loc Corporation; (2) Formosa Ha Tinh Corporation; (3) Hoa Sen Group; (4) Ton Dong A Corp.; and (5) Vina One Steel Manufacturing. However, as noted in the IDM at page seventeen, Commerce has determined that these five companies are in fact eligible for the certification process. Therefore, we are hereby correcting the Federal Register notice and page eight of the accompanying IDM to make clear that these five companies are eligible to participate in the certification process. Consistent with this correction, we intend to send instructions to the U.S. Customs and Border Protection without listing these companies as ineligible to participate in the certification process. No other changes have been made to the affirmative final determinations.

¹ See Certain Corrosion-Resistant Steel Products from the Republic of Korea: Affirmative Final Determinations of Anti-Circumvention Inquiries on the Antidumping Duty and Countervailing Duty Orders, 84 FR 70948 (December 26, 2019) and accompanying Issues and Decision Memorandum (IDM).

² See Certain Corrosion-Resistant Steel Products from India, Italy, the People's Republic of China, the Republic of Korea and Taiwan: Amended Final Affirmative Antidumping Determination for India and Taiwan, and Antidumping Duty Orders, 81 FR 48390 (July 25, 2016); see also Certain Corrosion-Resistant Steel Products from India, Italy, Republic of Korea and the People's Republic of China: Countervailing Duty Order, 81 FR 48387 (July 25, 2016).

³ Importers and exporters of CORE produced in the Socialist Republic of Vietnam (Vietnam) using: (1) HRS manufactured in Vietnam or third countries; (2) CRS manufactured in Vietnam using HRS produced in Vietnam or third countries; and/or (3) CRS manufactured in third countries—if they qualify to participate in the certification process—must certify that the HRS or CRS processed into CORE in Vietnam did not originate in Korea, as provided in Certain Corrosion-Resistant Steel Products from the Republic of Korea: Affirmative Final Determinations of Anti-Circumvention Inquiries on the Antidumping Duty and Countervailing Duty Orders, 84 FR at 70950-51 (appendices II-IV). Importers and exporters of CORE produced in Vietnam may also be subject to the certification processes provided in Certain Corrosion-Resistant Steel Products from the People's Republic of China: Affirmative Final Determination of Circumvention of the Antidumping Duty and Countervailing Duty Orders, 83 FR 23895 (May 23, 2018) and Certain Corrosion-Resistant Steel Products from Taiwan: Affirmative Final Determination of Circumvention Inquiry on the Antidumping Duty Order, 84 FR 70937 (December 26, 2019).

Dated: December 31, 2019.
Jeffrey I. Kessler,
Assistant Secretary for Enforcement and Compliance.

[FR Doc. 2020-00051 Filed 1-7-20; 8:45 am]

BILLING CODE 3510-DS-P